DEPARTMENT OF COMMERCE

National Oceanic and Atmospheric Administration

50 CFR Part 648

[Docket No. 170828816-8714-01]

RIN 0648-BH16

Fisheries of the Northeastern United States; Atlantic Mackerel, Squid, and Butterfish; Amendment 20

AGENCY: National Marine Fisheries Service (NMFS), National Oceanic and Atmospheric Administration (NOAA), Commerce.

ACTION: Proposed rule, request for comments.

SUMMARY: NMFS proposes regulations to implement measures in Amendment 20 to the Atlantic Mackerel, Squid, and Butterfish Fishery Management Plan and corrections to existing regulations. This action is necessary to prevent the reactivation of latent effort in the longfin squid fishery, preserve economic opportunities for more recently active participants in the longfin squid fishery, avoid overharvest during Trimester II (May-August) of the longfin squid fishery, and reduce potential negative impacts on inshore spawning longfin squid aggregations and squid egg masses. The Mid-Atlantic Fishery Management Council intends that these proposed measures would promote the sustainable utilization and conservation of the squid and butterfish resources, while promoting the sustained participation of fishing communities and minimizing adverse economic impacts on such communities.

DATES: Public comments must be received by October 1, 2018.

ADDRESSES: You may submit comments on this document, identified by NOAA-NMFS-2017-0110, by either of the following methods:

Electronic Submission: Submit all electronic public comments via the Federal e-Rulemaking Portal.

1. Go to www.regulations.gov/#!docketDetail;D=NOAA-NMFS-2017-0110,

2. Click the “Comment Now!” icon, complete the required fields, and

3. Enter or attach your comments.

—OR—

Mail: Submit written comments to Michael Pentony, Regional Administrator, National Marine Fisheries Service, 55 Great Republic Drive, Gloucester, MA 01930. Mark the outside of the envelope: “Comments on the Proposed Rule for Squid Amendment 20.”

Instructions: Comments sent by any other method, to any other address or individual, or received after the end of the comment period, may not be considered by NMFS. All comments received are part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

A draft environmental assessment (EA) has been prepared for this action that describes the proposed measures and other considered alternatives and the potential impacts of such measures and alternatives. Copies of the specifications document, including the EA and the Initial Regulatory Flexibility Analysis, are available on request from Dr. Christopher M. Moore, Executive Director, Mid-Atlantic Fishery Management Council, 800 North State Street, Suite 201, Dover, DE 19901, telephone (302) 674-2331. The EA/Regulatory Impact Review (RIR)/Regulatory Flexibility Act (RFA) analysis is also accessible via the internet at http://www.mafmc.org/s/Squid-Amendment-Draft-EA.pdf.

Written comments regarding the burden-hour estimates or other aspects of the collection-of-information requirements contained in this proposed rule may be submitted to the Greater Atlantic Regional Fisheries Office and by email to OIRA_Submission@omb.eop.gov or fax to (202) 395-5806.

FOR FURTHER INFORMATION CONTACT: Douglas Christel, Fishery Policy Analyst, (978) 281-9141, douglas.christel@noaa.gov.

SUPPLEMENTARY INFORMATION:

Background

In 1995, the Mid-Atlantic Fishery Management Council (Council) adopted and NMFS approved a limited access permit system for longfin squid and butterfish as part of Amendment 5 to the Atlantic Mackerel, Squid, and Butterfish Fishery Management Plan (FMP) (April 2, 1996; 61 FR 14465). Under Amendment 5, NMFS issued longfin squid/butterfish moratorium permits to vessels that landed a minimum amount of either species during a specified qualification period. Since then, the number of vessels landing longfin squid has decreased, with a relatively small portion of vessels issued longfin squid/butterfish moratorium permits landing the majority of longfin squid in recent years. The Council is concerned that unused longfin squid/butterfish moratorium permits could be activated, which could lead to excessive fishing effort and bycatch of both longfin squid and non-target species. This could cause negative biological impacts to these species. In addition, this increased effort could increase the race to fish and reduce access to available longfin squid quota by vessels with a continuous history of landings in recent years. Therefore, the Council developed Amendment 20 to consider adjusting the number of vessels qualified to fish in the directed and incidental longfin squid fishery and design appropriate measures to prevent unanticipated increases in fishing effort. The proposed measures described below could help prevent a race to fish, frequent and disruptive fishery closures, and reduced fishing opportunities for vessels that are more recently dependent upon longfin squid.

Longfin squid spawning occurs year round but is most frequently observed inshore during the late spring through early fall. Spawning aggregations and associated egg masses (mops) that are attached to the bottom are vulnerable to bottom fishing activities during the summer months when longfin squid are easily accessible to the fishery in large concentrations. In 2007, the Council implemented reduced quotas during summer months (May through August, or Trimester II) as part of the trimester quota system (January 30, 2007; 71 FR 4211). The Council developed the trimester quota system to improve the monitoring and management of the longfin squid fishery and prevent allowable quotas from being exceeded. Once a trimester quota has been landed, possession limits are reduced to incidental levels for all longfin squid permits. The FMP currently includes a 2,500 lb (1,134 kg) possession limit per trip for incidental permits and for all longfin squid permits when the directed fishery has closed once a quota has been landed. However, this incidental limit has allowed vessels to continue to land large amounts of longfin squid even after the directed fishery is closed, and has contributed to the Trimester II quota being exceeded by large amounts in several years. The Council is concerned that excessive fishing effort inshore during Trimester II could negatively impact the stock, interrupting spawning activity, increasing the mortality of squid eggs, and reducing future recruitment. Measures developed by the Council under this action are intended to adjust the management of longfin squid during Trimester II primarily to reduce impacts to spawning squid and egg mops.

From March through May 2015, the Council held scoping meetings from Rhode Island through New Jersey to discuss these issues and develop responsive measures. After further development and analysis, the Council conducted public hearings in April and May 2017 to solicit input on the range of alternatives under consideration by the Council. The Council accepted public comments through May 18, 2017. On June 7, 2017, the Council adopted final measures as part of Amendment 20 to the Atlantic Mackerel, Squid, and Butterfish FMP. On March 21, 2018, the Council submitted the amendment and draft EA to NMFS for preliminary review, with submission of the final draft amendment on June 6, 2018. NMFS drafted the proposed regulations to implement these measures for Council review. The Council deemed the proposed regulations to be necessary and appropriate to implement Amendment 20 on April 27, 2018, as specified in section 303(c) of the Magnuson-Stevens Fishery Conservation and Management Act (Magnuson-Stevens Act).

The purpose of Amendment 20 is to reduce latent (unused) effort in the longfin squid fishery and adjust the management of the longfin squid fishery during Trimester II (May through August). These measures are intended to avoid overharvesting the longfin squid resource and harming squid egg masses. Although the Council considered reducing the number of Illex squid moratorium permits in the fishery, the Council decided a reduction in the number of Illex moratorium permits was not appropriate at this time given low Illex landings and limited vessel participation in the fishery in most years. Measures proposed under this action would promote the sustainable utilization and conservation of the longfin squid and butterfish resources, while promoting the sustained participation of fishing communities and minimizing adverse economic impacts on such communities.

Proposed Measures

Under the Magnuson-Stevens Act, we are required to publish proposed rules for comment after preliminarily determining whether they are consistent with applicable law. The Magnuson-Stevens Act allows us to approve, partially approve, or disapprove measures that the Council proposes based only on whether the measures are consistent with the fishery management plan, plan amendment, the Magnuson-Stevens Act and its National Standards, and other applicable law. Otherwise, we must defer to the Council's policy choices. We are seeking comments on the Council's proposed measures in Amendment 20 described below and whether they are consistent with the Atlantic Mackerel, Squid, and Butterfish FMP, the Magnuson-Stevens Act and its National Standards, and other applicable law.

This proposed rule includes changes to existing FMP measures adopted by the Council under Amendment 20, but also several revisions to regulations that are not specifically identified in Amendment 20. These revisions are necessary to effectively implement the provisions in Amendment 20, or to correct errors in, or clarify, existing provisions. NMFS is proposing these latter changes under the authority of section 305(d) of the Magnuson-Stevens Act.

1. Separate Butterfish Moratorium Permit

Amendment 5 created a joint longfin squid/butterfish moratorium permit based on the historic overlap between the directed longfin squid and butterfish fisheries. NMFS issued moratorium permits to qualified vessels based on a minimum landings amount of either species during the qualification period. To reduce capacity in the longfin squid fishery without unintentionally reducing domestic fishing capacity for butterfish, Amendment 20 proposes to separate the longfin squid/butterfish moratorium permit into two moratorium permits, one for each species. Amendment 20 would create a new butterfish moratorium permit and a separate, revised longfin squid moratorium permit, as described further below.

Under Amendment 20, all entities currently issued a longfin squid/butterfish moratorium permit would be automatically issued a new and separate butterfish moratorium permit. The existing permit restrictions and vessel trip report (VTR), observer, slippage, and transfers at sea requirements currently applicable to the existing longfin squid/butterfish moratorium permit would apply to the proposed new butterfish moratorium permit. These permits would maintain the existing vessel permit baseline characteristics, vessel replacement and upgrade provisions, and the restriction on permit splitting; be required to submit vessel trip reports on a weekly basis; and be subject to measures to address slippage and transfers at sea specified at 50 CFR 648.11(n)(3) and 648.13, respectively. Vessels issued a new butterfish moratorium permit would not be required to submit a specific butterfish trip declaration using the vessel monitoring system (VMS) or submit daily VMS catch reports of butterfish but would be required to maintain an operational VMS unit to provide NMFS with automatic position reports. Finally, the existing butterfish possession limits specified at § 648.26(d)(1) and (2) (unlimited when fishing with a mesh size of three inches (76 mm) or greater, and 5,000 lb (2,268 kg) per trip when fishing with less than three-inch (76-mm) mesh) would remain the same for this new permit.

2. Tier 1 Longfin Squid Moratorium Permit

Amendment 20 proposes to re-qualify current longfin squid moratorium permits based on recent landings history to reduce the potential for the reactivation of latent fishing permits. Under this measure, NMFS would issue a new Tier 1 longfin squid moratorium permit only to 2018 longfin squid/butterfish moratorium permits that landed at least 10,000 lb (4,536 kg) of longfin squid in any year from 1997-2013. The Regional Administrator would use fishing history, as documented through dealer reports, to re-qualify permits, including permits currently held in confirmation of permit history (CPH), and automatically issue Tier 1 longfin squid moratorium permits to qualified entities.

Any vessel owner could apply for a Tier 1 longfin squid permit within one year of the effectiveness of this permit, if approved under Amendment 20. A vessel owner that does not qualify to be issued a new Tier 1 longfin squid moratorium permit would be notified by the Regional Administrator and could appeal that decision within 30 days of the denial notice. An appeal would require a written request to the Regional Admininstrator, and the appeal would be reviewed by the NOAA Fisheries National Appeals Office. Appeals could be based upon evidence that the information used in the original denial was incorrect. During an appeal, a vessel owner could request the Regional Administrator to authorize its vessel to continue fishing for longfin squid under the measures for a Tier 1 permit until that appeal is completed.

A vessel issued a Tier 1 longfin squid moratorium permit would be subject to all measures applicable to the existing longfin squid/butterfish moratorium permit, including, but not limited to, the vessel baseline and upgrade, VTR and VMS reporting, observer, slippage, and transfers at sea requirements. A Tier 1 longfin squid moratorium permit would be able to land an unlimited amount of longfin squid per trip, unless the directed longfin squid fishery is closed and incidental limits are implemented, as described further below. As currently allowed for longfin squid/butterfish moratorium permits, Tier 1 permits could also possess up to 15,000 lb (6,804 kg) of longfin squid per trip after the longfin squid fishery is closed in Trimester II, provided the vessel is declared into the Illex squid fishery, possesses at least 10,000 lb (4,536 kg) of Illex squid, and is fishing offshore.

3. Tier 2 Longfin Squid Moratorium Permit

Although the Council chose to reduce latent longfin squid permits, it also wanted to recognize the historic participation of permits that originally qualified for a longfin squid/butterfish moratorium permit. To do so, Amendment 20 would create a separate longfin squid moratorium permit with a moderate possession allowance. The Regional Administrator would automatically issue a Tier 2 longfin squid moratorium permit to any vessel currently issued a 2018 longfin squid/butterfish moratorium permit or an entity issued such a permit in CPH that does not qualify for a Tier 1 longfin squid moratorium permit described above. A Tier 2 permit would be subject to all measures applicable to the existing longfin squid/butterfish moratorium permit, including, but not limited to, the permit, VTR and VMS reporting, observer, slippage, and transfers at sea requirements. However, a Tier 2 permit would only be allowed to land up to 5,000 lb (2,268 kg) of longfin squid per trip, unless the directed longfin squid fishery is closed and incidental limits are implemented, as described further below. Similar to Tier 1 permits, a vessel issued a longfin squid Tier 2 moratorium permit could continue to possess up to 5,000 lb (6,804 kg) of longfin squid per trip after the longfin squid fishery is closed in Trimester II. To do so, a Tier 2 moratorium permitwould have to declare into the Illex squid fishery, possess at least 10,000 lb (4,536 kg) of Illex squid, and fish offshore in the area specified at § 548.23(a)(5).

4. Tier 3 Longfin Squid Incidental Permit

Under Amendment 20, the Council wanted to reduce incentives to target longfin squid under an incidental permit, while still preserving more recent fishing patterns and minimizing discards of squid caught while targeting other species. Under this measure, NMFS would issue a new Tier 3 longfin squid moratorium permit to vessels previously issued an open access squid/butterfish incidental catch permit in any year that landed more than 5,000 lb (2,268 kg) of longfin squid in at least one calendar year from 1997-2013 based on dealer landings data. By limiting access to this incidental permit such that it could not be dropped and re-issued at any time, this measure would prevent a vessel owner from canceling his/her Federal permit to fish for longfin squid in state waters above Federal limits during the fishing year. This would better control longfin squid landings, particularly after a closure of the fishery in Trimester II.

A vessel owner must apply for a Tier 3 longfin squid moratorium permit by submitting an application to the Regional Administrator within one year of the effectiveness of these permits, if approved under Amendment 20. The owner of a vessel permit that does not qualify for a new Tier 3 longfin squid moratorium permit would be notified by the Regional Administrator and could appeal that decision within 30 days of the denial notice. An appeal would require a written request to the Regional Admininstrator, and the appeal would be reviewed by the NOAA Fisheries National Appeals Office. Appeals could be based upon evidence that the information used in the original denial was incorrect. During an appeal, a vessel owner could request the Regional Administrator to authorize its vessel to continue fishing for longfin squid under the measures for a Tier 3 longfin squid permit until that appeal is completed.

A vessel issued a Tier 3 longfin squid permit would be subject to all measures applicable to the existing squid/butterfish incidental catch permit. Unlike Tier 1 or 2 longfin squid moratorium permits, Tier 3 permits would not be issued a vessel baseline, and would not be subject to the vessel upgrade provisions. A Tier 3 longfin squid moratorium permit would be able to land up to 2,500 lb (1,134 kg) of longfin squid per trip, unless the directed longfin squid fishery is closed during Trimester II and incidental limits are implemented, as described further below.

5. Longfin Squid Moratorium Permit Swap

Amendment 20 would allow an owner of more than one longfin squid/butterfish moratorium permit as of May 26, 2017, a one-time opportunity to move longfin squid moratorium permits onto a different vessel that they own to optimize their fishing operations. Under this measure, a vessel owner could move a qualified Tier 1 longfin squid moratorium permit from one of his/her vessels and place it on another vessel that is owned by that same entity and also issued a Tier 2 longfin squid moratorium permit. In this exchange, the Tier 2 longfin squid moratorium permit would be moved onto the vessel originally issued the Tier 1 longfin squid moratorium permit. This allows a vessel owner to “swap” Tier 1 and Tier 2 longfin squid moratorium permits among vessels owned by that entity such that the Tier 1 longfin squid moratorium permit is placed on a vessel that is better able to capitalize on the longfin squid fishing opportunities available to such a permit than the other vessel. This measure is intended to help maximize potential fishing opportunities and associated revenue for entities that have been issued multiple longfin squid moratorium permits on separate vessels and mitigate the loss of revenue potential associated with a permit that does not re-qualify for a Tier 1 longfin squid moratorium permit.

Only permits issued to vessels owned by the same business entity as of May 26, 2017, would be able to participate in the permit swap; a permit held in CPH as of May 26, 2017, would not be eligible to participate. May 26, 2017, is the day that June 2017 Council meeting materials, including the description of proposed measures, were made available to the public. The Council chose this date to limit eligibility for permit swaps to reduce the potential that business entities would change permit ownership to take advantage of this measure and circumvent the purpose of this measure.

Vessels involved in the swap would also need to be within 10 percent of the baseline length overall and 20 percent of the baseline horsepower of the permit to be placed on that vessel. Only Tier 1 and Tier 2 longfin squid moratorium permits could be transferred as part of this permit swap; no other fishery permits could be swapped as part of this transaction. An owner interested in swapping permits would need to apply for the permit swap within one year of the issuance of the Tier 1 or Tier 2 longfin squid moratorium permits. If approved, the Regional Administrator would distribute a permit swap application form to permit holders.

6. Incidental Longfin Squid Possession Limit

Amendment 20 would reduce the longfin squid possession limit from 2,500 lb (1,134 kg) per trip to 250 lb (113 kg) per trip for vessels issued an open access squid/butterfish incidental permit. A lower incidental possession limit would reduce incentives to target longfin squid and more effectively control fishing effort and landings in the fishery. This could reduce overall fishing effort and bycatch and associated mortality on longfin squid and other species.

This action would also reduce the longfin squid incidental limit for all longfin squid permits from 2,500 lb (1,134 kg) per trip to 250 lb (113 kg) per trip once the Trimester II quota has been landed. The longfin squid incidental limit would remain 2,500 lb (1,134 kg) per trip for any closure implemented during Trimesters I or III. In recent years, excessive landings under the current incidental trip limit (2,500 lb (1,134 kg)) following the closure of the directed fishery in Trimester II has resulted in substantial overages of the Trimester II quota. This measure would reduce incentives to target longfin squid after such a closure, reducing bycatch of longfin squid and other species and impacts to spawning squid and egg mops during Trimester II.

7. Corrections and Clarifications to Existing Regulations

In § 648.2, the term “Northeast Regional Office” in the definition of “Atlantic Mackerel, Squid, and Butterfish Monitoring Committee” would be revised to “Greater Atlantic Regional Fisheries Office” to accurately reflect the current name of the facility. Definitions for “Calendar day,” “Directed fishery,” and “Incidental catch” would be added to clarify the application of these terms in the Atlantic Mackerel, Squid, and Butterfish FMP regulations, and to eliminate repeated definition of these terms in the regulations.

In § 648.4(a)(5)(iii), paragraph (B) would be revised to reflect the mackerel landing limit in kg instead of mt, and paragraphs (C), (D), (E), (H) would be revised and paragraph (M) would be deleted to eliminate outdated and unnecessary permit eligibility, application, qualification, baseline, and appeal regulations, respectively, related to the 2011 qualification of limited access mackerel permits.

In § 648.7, text at (a)(1)(i) and (ii) that was inadvertently deleted in the final rule implementing the Mid-Atlantic Unmanaged Forage Omnibus Amendment (August 28, 2017; 82 FR 40721) would be reinserted.

In § 648.10(e)(5)(i), the phrase “. . . or monkfish fishery” would be replaced with “monkfish, or any other fishery” to maintain consistency with other language in this paragraph and related text in paragraph (e)(5)(ii). This revision is necessary to ensure that a vessel that is subject to VMS requirements in any fishery accurately declares its intended fishing operations before leaving port.

In § 648.13, paragraph (a) would be revised to clarify that longfin squid, Illex squid, and butterfish moratorium permits and squid/butterfish incidental catch permits must be issued a letter of authorization (LOA) by the Regional Administrator to transfer longfin squid, butterfish, or Illex squid at sea. This would make the regulations consistent with the LOA language and historic practice.

In § 648.14, five corrections are proposed, as follows:

1. The introductory text to paragraph (g)(1)(i) would be revised to insert reference to the fishery closure and accountability measure regulations at § 648.24(d) and to replace “Take, retain . . .” with “Take and retain . . .” The first correction is to ensure that this prohibition can be effectively administered and enforced and accurately reflects notifications associated with the implementation of specifications, closures, and accountability measures. The second correction restores the original language of this prohibition to accurately reflect its intent to allow vessels that may encounter these species during normal operations to interact with and discard these species, as appropriate.

2. Paragraph (g)(1)(ii)(B) would be revised to use the term “Illex squid” consistent with the use of this term in other regulations and reflect the corrections to § 648.13(a) described above.

3. Paragraph (g)(2)(i) would be revised to reference Subpart B instead of § 648.22 to ensure that the general prohibition applies to all Atlantic Mackerel, Squid, and Butterfish FMP measures, not just those implemented via the specifications process because FMP measures are implemented via framework adjustments, amendments, and specifications actions.

4. Paragraphs (g)(2)(ii)(D) and (F) would be revised to read that it is unlawful for any person owning or operating a vessel issued a valid mackerel, squid, and butterfish fishery permit, or issued an operator's permit to “Take and retain, possess, or land” these species instead of “Take, retain, possess, or land” these species. This distinction is necessary to allow vessels that may encounter these species during normal operations to interact with and discard these species, as appropriate, consistent with Council intent.

5. Paragraph (g)(2)(v) would be revised to replace “limited access” with “directed” to reference the Atlantic mackerel, longfin squid, and Illex squid fisheries. This is intentended to maintain consistency with the way in which these fisheries are referenced in other applicable regulations.

In § 648.22, several corrections are proposed. In paragraph (a), species headings would be added to clarify which elements are to be specified for each species during the specifications process and to spell out terms used for the first time in the regulations. The term “Illex squid” would replace the term “Illex” for clarity in several paragraphs. Finally, in paragraph (c)(3), the reference to § 648.4(1)(5)(ii) would be replaced with reference to § 648.4(a)(5)(vi) to accurately reflect the correct regulation for the squid/butterfish incidental catch permit.

In § 648.25(a)(4)(i), the reference to paragraph (a)(2) would be replaced with the accurate reference to paragraph (a)(3) of that section.

Classification

Pursuant to section 304(b)(1)(A) of the Magnuson-Stevens Act, the NMFS Assistant Administrator has determined that this proposed rule is consistent with Amendment 20 to the Atlantic Mackerel, Squid, and Butterfish FMP, other provisions of the Magnuson-Stevens Act, and other applicable law, subject to further consideration after public comment.

This proposed rule has been determined to be not significant for the purposes of Executive Order 12866.

This proposed rule does not contain policies with Federalism or takings implications as those terms are defined in E.O. 13132 and E.O. 12630, respectively.

The Council prepared a draft EA for this action that analyzes the impact of measures contained in this proposed rule. The EA includes an IRFA, as required by section 603 of the RFA, which is supplemented by information contained in the preamble of this proposed rule. The IRFA, as summarized below, describes the economic impact this proposed rule, if adopted, would have on small entities. A description of the action, why it is being considered, and the legal basis for this action are contained in the preamble to this proposed rule. A copy of the RFA analysis is available from the Mid-Atlantic Council (see ADDRESSES).

Description of the Reasons Why Action by the Agency Is Being Considered

The purpose of this action is to optimize management measures in the squid fisheries by reducing latent (unused) effort in the longfin squid fishery and adjusting the management of the longfin squid fishery during Trimester II (May through August) to avoid overharvesting the longfin squid resource. Section 4.0 of the EA prepared for this action (see ADDRESSES) contains a more thorough description of the purpose and need for this action.

Statement of the Objectives of, and Legal Basis for, This Proposed Rule

The legal basis and objectives for this action are contained in the preamble to this proposed rule, and are not repeated here. Sections 4.0 and 5.0 of the EA prepared for this action (see ADDRESSES) contains a more thorough description of the purpose and need for this action and the rational for each measure considered.

Description and Estimate of the Number of Small Entities to Which This Proposed Rule Would Apply

For the purposes of the RFA analysis, the ownership entities (or firms), not the individual vessels, are considered to be the regulated entities. Ownership entities are defined as those entities or firms with common ownership personnel as listed on the permit application. Because of this, some vessels with Federal longfin squid/butterfish permits may be considered to be part of the same firm because they may have the same owners. The North American Industry Classification System (NAICS) is the standard used by Federal statistical agencies in classifying business establishments for the purpose of collecting, analyzing, and publishing statistical data related to the U.S. business economy. For purposes of the RFA, a business primarily engaged in commercial fishing activity is classified as a small business if it has combined annual gross receipts not in excess of $11 million (NAICS 11411) for all its affiliated operations worldwide. A business primarily engaged in for-hire (charter/party) operations is characterized as annual gross receipts not in excess of $7.5 million. To identify these small and large firms, vessel ownership data from the permit database were grouped according to common owners and sorted by size. The current ownership data set used for this analysis is based on calendar year 2016 (the most recent complete year available).

The proposed action would affect any vessel issued a valid Federal longfin squid/butterfish moratorium permit or an open access squid/butterfish incidental permit. According to the commercial database, 295 separate vessels were issued a longfin squid/butterfish moratorium permit in 2016. These vessels were owned by 222 entities, of which 214 were categorized as small business entities using the definition specified above. In 2016, 1,528 vessels were issued an open access squid/butterfish incidental permit. These vessels were owned by 1,114 entities, of which 1,105 were small business entities. In total, 1,319 small business entities may be affected by this rule out of a potential 1,336 entities (large and small) that may be affected by this action. Therefore, 99 percent of affected entities are categorized as small businesses.

Not all entities potentially affected by this action landed fish for commercial sale in 2016. Nine small business entities issued a longfin squid/butterfish moratorium permit did not have any fishing revenue in 2016, while 274 small business entities issued an open access squid/butterfish incidental catch permit did not have any fishing revenue in 2016. Only 1,036 small business entities had fishing revenue in 2016, representing 79 percent of the small entities potentially affected by this action.

Description of the Projected Reporting, Recordkeeping, and Other Compliance Requirements of This Proposed Rule

This proposed rule contains collection-of-information requirements subject to review and approval by the Office of Management and Budget (OMB) under the Paperwork Reduction Act (PRA). This requirement has been submitted to OMB for approval. Public reporting burden and costs associated with these information collections, including the time for reviewing instructions, searching existing data sources, gathering and maintaining the data needed, and completing and reviewing the collection of information, are estimated to average, as follows:

1. Application for a longfin squid moratorium permit, OMB #0648-0679 (60 min/response and an annual cost of $254.80 for postage);

2. Appeal of the denial of a longfin squid moratorium permit, OMB #0648-0679 (120 min/response and an annual cost of $226.87 for postage); and

3. Application for a longfin squid moratorium permit swap, OMB #0648-0679 (5 min/response and an annual cost of $1.63 for postage).

Public comment is sought regarding: Whether this proposed collection of information is necessary for the proper performance of the functions of the agency, including whether the information shall have practical utility; the accuracy of the burden estimate; ways to enhance the quality, utility, and clarity of the information to be collected; and ways to minimize the burden of the collection of information, including through the use of automated collection techniques or other forms of information technology. Send comments on these or any other aspects of the collection of information to the Greater Atlantic Regional Fisheries Office at the ADDRESSES above, and email to OIRA_Submission@omb.eop.gov, or fax to (202) 395-5806.

Federal Rules Which May Duplicate, Overlap, or Conflict With This Proposed Rule

This proposed rule does not duplicate, overlap, or conflict with any other Federal rule.

Description of Significant Alternatives to the Proposed Action Which Accomplish the Stated Objectives of Applicable Statutes and Which Minimize Any Significant Economic Impact on Small Entities

Section 7.5 of the EA estimates the number of vessel permits that would qualify under each alternative and the associated economic impacts to affected entities based on recent landings, with additional analysis provided in Section 12 of the EA. The text below summarizes the economic impacts for significant non-selected alternatives.

1. Longfin Squid Moratorium Permit Qualification

Under Amendment 20, the Council considered five alternatives, including the no-action alternative, to reduce latent permits in the longfin squid fishery through the creation of a tiered permit system based on historical participation in the fishery. The alternatives included different combinations of qualifying years (1997-2013 or 1997-2015) and minimum landings thresholds (10,000 lb (4,536 kg), 25,000 lb (11,340 kg), or 50,000 lb (22,680 kg)). Of these five alternatives, only Alternative 1B is considered a significant alternative because it meets the objectives of this action and minimizes adverse economic impacts compared to the proposed action (Alternative 1C); the no action alternative (Alternative 1A) would not meet the objectives of this action.

Unlike the proposed action which is based on landings through 2013, Alternative 1B would re-qualify a vessel for a longfin squid moratorium permit if it landed more than 10,000 lb (4,536 kg) of longfin squid in any year during 1997-2015. Based on these criteria, 224 vessel permits currently issued a longfin squid/butterfish moratorium permit would qualify for and be issued a Tier 1 longfin squid moratorium permit under Amendment 20. The 159 vessels that would not qualify would be issued a Tier 2 longfin squid moratorium permit and be restricted to 5,000 lb (2,268 kg) of longfin squid per trip. From 2014-2016, 80 percent of these vessels (127) did not land any longfin squid. Of the 32 vessels that landed some longfin squid during 2014 and 2016, 6 vessels took 32 trips that landed more than 5,000 lb (2,268 kg) of longfin squid, all during 2016. If such trips would have been limited to 5,000 lb (2,268 kg) of longfin squid, foregone revenues would have totaled $438,835, or $73,139 annually per vessel. This amount represents 7 percent of their total average annual fishing revenues of $1,042,770 during 2014-2016. Given the increased availability of longfin squid during 2016, this is likely an upper bound estimate of the likely impacts to affected vessels, as availability fluctuates yearly and these vessels did not land more than 5,000 lb (2,268 kg) of longfin squid from any trip during 2014 or 2015.

Alternative 1B was not selected by the Council for several reasons. The year range used to requalify permits under this alternative (1997-2015) is not consistent with the May 16, 2013, control date specified by the Council for this action. This control date served as public notice that the Council intended to further reduce capacity in the longfin squid fishery and that any fishing activity after this date may not qualify for future access to this fishery. The preferred alternative incorporates the control date and would only re-qualify permits based on landings through 2013. Alternative 1B would also re-qualify ten more longfin squid moratorium permits than the preferred alternative. These additional permits have not been regular participants in the squid fishery. Considering the sum of their individual best years from 1994-2016, these vessels have the capacity to land an additional 500,000 lb (227 mt) of longfin squid compared to vesssels qualifying under the preferred alternative based on the highest landings of qualifying vessels under each alternative. This additional fishing capacity has the potential to exacerbate seasonal closures implemented in the longfin squid fishery in 2014 and 2016, and could lead to a race to fish; excess longfin squid catch and landings, particularly during the spawning season; and reduced fishing opportunities for permits that have been more dependent on longfin squid based on past operations. As noted above, the Council attempted to mitigate economic impacts by creating a Tier 2 longfin squid moratorium permit that allows for moderate possession limits to vessels that do not re-qualify. Therefore, the Council concluded that the preferred alternative represented the best balance of avoiding excessive landings and a race to fish by not allowing too many vessels to target longfin squid, while ensuring that enough vessels remain in the fishery to achieve optimum yield and minimizing economic impacts to vessels that do not re-qualify.

2. Longfin Squid Incidental Permit Qualification and Incidental Possession Limit

Under Amendment 20, the Council considered three alternatives to reduce incidental catch permits in the longfin squid fishery, including the no-action alternative. Of these three alternatives, only Alternative 3B is considered a significant alternative because it meets the objectives of this action and minimizes adverse economic impacts compared to the preferred alternative (Alternative 3C); the no action alternative (Alternative 3A) would not meet the objectives of this action. Both Alternatives 3B and 3C used the same qualifying years (1997-2013), but different minimum landings thresholds (2,500 lb (1,134 kg) for Alternative 3B and 5,000 lb (2,268 kg) for Alternative 3C). Under each alternative, the Council considered two options for incidental longfin squid possession limits—250 lb (113 kg) or 500 lb (227 kg) per trip.

Under Alternative 3B, 385 vessels would qualify and be issued a Tier 3 longfin squid moratorium permit, allowing such vessels to continue landing up to 2,500 lb (1,134 kg) of longfin squid per trip. Out of the 1,143 vessels that would not qualify for a Tier 3 permit under Alternative 3B, 755 (66 percent) did not have any longfin squid landings during the qualifying period, while 388 (34 percent) landed less than 2,500 lb (1,134 kg) of longfin squid during the qualification period. Of these 388 permits with minimal longfin squid landings, 32 permits took 101 trips during 2014-2016 that landed 250-2,500 lb (113-1,134 kg) of longfin squid, resulting in nearly $270,000 in longfin squid revenue that averaged $1,120 per year for each permit. Twenty-one of these vessels took 52 trips during 2014-2016 that landed between 500-2,500 lb (226-1,134 kg) of longfin squid, averaging $1,437 per permit per year. Under either trip limit option, each non-qualified vessel would lose, on average, $1,134-$1,437 per year under Alternative 3B. These vessels earned an average of $683,723 from the landings of all species during 2014-2016. Therefore, longfin squid landings from trips affected by Alternative 3B represented only a small fraction (less than one quarter of one percent) of total fishing revenue for these vessels.

The Council selected Alternative 3C over Alternative 3B because the preferred alternative would more effectively create a system where vessels with incidental permits that had substantial longfin squid landings would keep their current possession limit and not be forced to discard longfin squid. It would also limit vessels without a history of substantial landings to a smaller possession limit. The higher minimum landing threshold under Alternative 3C would only require vessels to have made two trips maximizing the current incidental catch limit to qualify compared to one trip under Alternative 3B. This very low qualification threshold minimizes the number of non-qualified vessels to those that were landing minimal amounts of longfin squid in the past, consistent with the Council's rationale for selecting a low, but not the lowest, landings threshold to retain the longfin squid moratorium permit described above. Input from the Council's Mackerel, Squid, and Butterfish Advisory Panel indicated that a low possession limit of 250-500 lb (226-452 kg) would strongly reduce incentives to target longfin squid. Consistent with the objectives of this action, the Council preferred the lowest possession limit for incidental permits to eliminate incentives to target longfin squid and to minimize discards of squid caught as bycatch in other fisheries.

3. Longfin Squid Incidental Posession Limit Following Trimester II Closure

Under Amendment 20, the Council considered three alternatives to reduce the longfin squid incidental possession limit for all longfin squid permits once the available Trimester II quota was landed, including the no-action alternative. The no action alternative (Alternative 5A) would allow all permitted longfin squid vessels to continue to possess up to 2,500 lb (1,134 kg) of longfin squid after the Trimester II quota is caught and the directed fishery is closed, while Alternative 5B (the Council's preferred alternative) and 5C would allow vessels to retain up to 250 lb (113 kg) or 500 lb (226 kg) per trip, respectively, after such a closure. Alternatives 5A and 5C are both considered significant alternatives because they meet the objectives of this action and minimize adverse economic impacts compared to the preferred alternative.

Longfin squid landings and revenue from 2016 provide a good indication of potential maximum economic impacts to vessels under Alternatives 5A, 5B, and 5C, as longfin squid landings continued after the Trimester II directed fishery was closed from June 29-August 31, 2016. Assuming squid are similarly available in the future, 2016 landings data indicate that Alternative 5A could allow the fishery to land up to 5.6 million lb (2,540 mt) of longfin squid under the current 2,500 lb (1,134 kg) incidental possession limit following the closure of the directed fishery in Trimester II. Nearly all of these landings were from trips that landed more than 250 lb (113 kg), although not all landings occurred in Federal waters. Using 2016 prices, these landings were valued at $6.4 million, and represent an upper bound estimate of potential revenue under Alternative 5A that potentially would be lost under this action. Trips landing between 250-2,500 lb (113-1,134 kg) of longfin squid after the closure accounted for 3.4 million lb (1,542 mt) of longfin squid landings valued at $4.1 million. Average vessel revenue for the 129 vessels that took these trips was $31,444, representing just 4.8 percent of their total average longfin squid landing revenue ($649,473) during 2016. This approximates potential revenue losses under Alternative 5B. For a majority of these vessels, longfin squid was not a substantial portion of total fishery revenue in 2016, with only 14 percent of affected vessels relying on longfin squid for more than 20 percent of total fishery revenue. Potential revenue lost under Alternative 5C is reflected by trips landing between 500-2,500 lb (226-1,134 kg), which accounted for 3.4 million lb (1,542 mt) of landings valued at $4.0 million during 2016. Average vessel revenue for the 123 vessels that took these trips was $32,303, representing 5.2 percent of their total average longfin squid landing revenue ($620,887) during 2016.

The Council preferred Alternative 5B because it would better achieve the objectives of this action. Alternative 5B would provide additional control over longfin squid catch following the closure of the directed fishery during Trimester II and reduce negative impacts to longfin squid and egg mops during the spawning season. Landings after the 2016 Trimester II closure accounted for 30 percent of overall landings during that period. Excessive landings during Trimester II could negatively affect squid productivity and have been shown to reduce longfin squid catch rates in subsequent seasons. Unlike the no action alternative (Alternative 5A) and Alternative 5C, the preferred alternative would help prevent excessive longfin catch by reducing incentives to target longfin squid under a very low incidental possession limit based on input from the Council's Advisory Panel. During 2016, only one percent of longfin squid landings after the Trimester II closure occurred on trips landing 250 lb (113 kg) or less, suggesting that the proposed action would essentially eliminate excessive catch and more effectively ensure that landings do not exceed allowable limits during Trimester II. Although Alternative 5B would result in the highest potential foregone revenues among alternatives considered, if longfin squid remain available into Trimester III or future longfin squid productivity increases due to reduced effort during the spawning season, the preferred alternative may produce higher future economic returns than other alternatives.

List of Subjects in 50 CFR Part 648

Fisheries, Fishing, Recordkeeping and reporting requirements.

Dated: August 27, 2018.
Samuel D. Rauch III,
Deputy Assistant Administrator for Regulatory Programs, National Marine Fisheries Service.

For the reasons set out in the preamble, 50 CFR part 648 is proposed to be amended as follows:

PART 648—FISHERIES OF THE NORTHEASTERN UNITED STATES

1. The authority citation for part 648 continues to read as follows:

Authority: 16 U.S.C. 1801 et seq.

2. In § 648.2, revise the definition of “Atlantic Mackerel, Squid, and Butterfish Monitoring Committee” and add definitions for “Calendar day,” “Directed fishery,” and “Incidental catch” in alphabetical order to read as follows:

§ 648.2 Definitions.

* * * * *

Atlantic Mackerel, Squid, and Butterfish Monitoring Committee means the committee made up of staff representatives of the MAFMC and the NEFMC, and the Greater Atlantic Regional Fisheries Office and NEFSC of NMFS. The MAFMC Executive Director or a designee chairs the Committee.

* * * * *

Calendar day, with respect to the squid and butterfish fisheries, means the 24-hr period beginning at 0001 hours and ending at 2400 hours,

* * * * *

Directed fishery, with respect to the longfin squid, Illex squid, and butterfish fisheries, means commercial fishery operations in which more than an incidental catch of each species, as defined in this section, is retained by a vessel.

* * * * *

Incidental catch, with respect to the longfin squid, Illex squid, and butterfish fisheries, means less than 250 lb (113 kg) of longfin squid, 10,000 lb (4,536 kg) of Illex squid, or 600 lb (272 kg) of butterfish retained on board the vessel.

* * * * *

3. In § 648.4, revise paragraph (a)(5) to read as follows:

§ 648.4 Vessel permits.

(a) * * *

(5) Mackerel, squid, and butterfish vessels. Any vessel of the United States, including party and charter vessels, must have been issued and carry on board a valid vessel permit to fish for, possess, or land Atlantic mackerel, squid, or butterfish in or from the EEZ.

(i) Longfin squid moratorium permits.

(A) Eligibility. To be eligible to apply for a moratorium permit to fish for and retain longfin squid in excess of the incidental catch allowance in paragraph (a)(5)(vi) of this section in the EEZ, a vessel must have been issued a longfin squid moratorium permit for the preceding year, be replacing a vessel that was issued a moratorium permit for the preceding year, or be replacing a vessel that was issued a confirmation of permit history. Beginning in fishing year 2018, a vessel may be eligible for and could be issued a Tier 1, Tier 2, or Tier 3 longfin squid moratorium permit if the vessel and associated fishing history meet the criteria described under paragraphs (a)(5)(i)(A)(1) through (3) of this section.

(1) Tier 1 longfin squid moratorium permit. Beginning on [date 90 days after the date of publication of the final rule in the Federal Register], the Regional Administer shall automatically issue a Tier 1 longfin squid moratorium permit to any vessel that is issued a longfin squid/butterfish moratorium permit or eligible to be issued such a permit held in confirmation of permit history (CPH) during calendar year 2018 that meets the eligibility criteria in this paragraph (a)(5)(i)(A)(1). To be eligible for a Tier 1 permit, a vessel must have been issued a valid longfin squid/butterfish moratorium permit and landed more than 10,000 lb (4,536 kg) of longfin squid in at least one calendar year between January 1, 1997, and December 31, 2013. Fishing history, including for a permit held in confirmation of permit history, can be used by a vessel to qualify for and be issued a Tier 1 longfin squid moratorium permit, provided the Regional Administrator has determined that the fishing and permit history of such vessel has been lawfully retained by the applicant. Landings data used in this qualification must be verified by dealer reports submitted to NMFS. A vessel that was not automatically issued a Tier 1 longfin squid moratorium permit may apply for such a permit in accordance with paragraph (a)(5)(i)(B) of this section.

(2) Tier 2 longfin squid moratorium permit. Beginning on [date 90 days after the date of publication of the final rule in the Federal Register], the Regional Administer shall automatically issue a Tier 2 longfin squid moratorium permit to any vessel that is issued a longfin squid/butterfish moratorium permit or eligible to be issued such a permit held in CPH during fishing year 2018 that does not qualify for a Tier 1 longfin squid moratorium permit, as described in paragraph (a)(5)(i)(A)(1) of this section.

(3) Tier 3 longfin squid moratorium permit. To be issued a Tier 3 permit, a vessel must have been issued an open access squid/butterfish permit and landed more than 5,000 lb (2,268 kg) of longfin squid in at least one calendar year between January 1, 1997, and December 31, 2013. Landings data used in this qualification must be verified by dealer reports submitted to NMFS.

(B) Application/renewal restriction. See paragraph (a)(1)(i)(B) of this section. Unless automatically issued a Tier 1 or 2 longfin squid moratorium permit in accordance with paragraphs (a)(5)(i)(A)(1) or (2) of this section, beginning on [date 90 days after the date of publication of the final rule in the Federal Register], a vessel owner may submit an initial application for a longfin squid moratorium permit described in paragraph (a)(5)(i)(A)(1) through (3) of this section. The initial application must be received by NMFS or postmarked no later than [date 455 days after the date of publication of the final rule in the Federal Register]. An initial application for a longfin squid moratorium permit that is not postmarked before [date 455 days after the date of publication of the final rule in the Federal Register], will not be processed because of this regulatory restriction, and will be returned to the sender with a letter explaining the reason for its return.

(C) Qualification restriction. See paragraph (a)(1)(i)(C) of this section. Longfin squid landings history generated by separate owners of a single vessel at different times during the qualification period for a longfin squid moratorium permit may be used to qualify more than one vessel, provided that each owner applying for such a permit demonstrates that he/she created distinct fishing histories, that such histories have been retained, and if the vessel was sold, that each applicant's eligibility and fishing history is distinct.

(D) Change in ownership. See paragraph (a)(1)(i)(D) of this section.

(E) Replacement vessels. With the exception of a vessel issued a longfin squid Tier 3 moratorium permit, to be eligible for a longfin squid moratorium permit, a replacement vessel must meet the criteria specified in paragraph (a)(1)(i)(E) of this section.

(F) Upgraded vessel. With the exception of a vessel issued a longfin squid Tier 3 moratorium permit, the upgrade provisions in paragraph (a)(1)(i)(F) of this section apply to a vessel issued a longfin squid moratorium permit.

(G) Consolidation restriction. See paragraph (a)(1)(i)(G) of this section.

(H) Vessel baseline specifications. With the exception of a vessel issued a longfin squid Tier 3 moratorium permit, the vessel baseline specification measures specified in paragraph (a)(3)(i)(H) of this section apply to a vessel issued a longfin squid moratorium permit.

(I) One-time longfin squid moratorium permit swap. An entity that owns multiple vessels issued longfin squid/butterfish moratorium permits as of May 26, 2017, has a one-time opportunity to swap one Tier 1 longfin squid moratorium permit issued to one of its vessels with a longfin squid Tier 2 moratorium permit issued to another of its vessels. No other fishery permits issued under this section may be transferred pursuant to this paragraph (a)(5)(i)(I). To be eligible for the one-time longfin squid moratorium permit swap, the following conditions must be met:

(1) An application to swap longfin squid moratorium permits must be received by the Regional Administrator within one year of the Regional Administrator's final decision on the issuance of the longfin squid Tier 1 or Tier 2 moratorium permits to be exchanged;

(2) At the time of the application, the owner of record for both vessels and permits involved in the permit swap must be identical to the owner of record of the same two vessels issued the associated longfin squid/butterfish moratorium permits as of May 26, 2017;

(3) The length overall of the vessel upon which a longfin squid moratorium permit would be placed may not exceed the length overall associated with that individual permit's vessel baseline specifications by more than 10 percent; and

(4) The horsepower of the vessel upon which a longfin squid moratorium permit would be placed may not exceed the horsepower associated with that individual permit's vessel baseline specifications by more than 20 percent.

(J) Confirmation of permit history. See paragraph (a)(1)(i)(J) of this section.

(K) Abandonment or voluntary relinquishment of permits. See paragraph (a)(1)(i)(K) of this section.

(L) Restriction on permit splitting. See paragraph (a)(1)(i)(L) of this section.

(M) Appeal of permit denial.

(1) Eligibility. Any applicant eligible to apply for a longfin squid moratorium permit who is denied such permit by the Regional Administrator may appeal the denial to the Regional Administrator within 30 days of the notice of denial.

(2) Appeal review. Review of the Regional Administrator's decisions on longfin squid moratorium permit issuance will be conducted by the NOAA Fisheries National Appeals Office pursuant to the procedures set forth in 15 CFR part 906, unless otherwise modified by the procedures described here. The National Appeals Office shall make findings and submit its decision to the Regional Administrator and the applicant. The Regional Administrator will review the National Appeals Office decision and make a final decision regarding any appeal in accordance with 15 CFR 906.17. The Regional Administrator's decision is the final decision of the Department of Commerce.

(i) Appeal request. An appeal of the denial of an initial permit application must be made in writing and submitted to and received by the Regional Administrator or postmarked no later than 30 days after the denial of an initial longfin squid moratorium permit application. Upon receipt, the Regional Administrator shall forward each appeal request to the National Appeals Office. Appeals must be based on the grounds that the information used by the Regional Administrator in denying the original permit application was incorrect. Items subject to appeal include, but are not limited to, the accuracy of the amount of landings, the correct assignment of landings to a vessel and/or permit holder, and the issuance of a permit to a particular entity. The appeal request must state the specific grounds for the appeal, and include information to support the appeal. An appellant may request a hearing by including a concise statement raising genuine and substantial issues of a material fact or law that cannot be resolved based on the documentary evidence alone. An appellant may also request a letter of authorization (LOA), as described in paragraph (a)(5)(i)(M)(3) of this section, to continue to fish during an appeal. If the appeal of the denial of the permit application is not made within 30 days, the denial of the permit application shall constitute the final decision of the Department of Commerce. The appeal will not be reviewed without submission of information in support of the appeal.

(ii) Reconsideration. Should the National Appeals Office deny an appeal request submitted according to paragraph (a)(5)(i)(M)(2)(i) of this section, the applicant may request a reconsideration of the appeal by the National Appeals Office. A reconsideration request must be made in writing and submitted to the National Appeals Office within 10 days of that office's decision on the appeal, as instructed by the National Appeals Office.

(3) Status of vessels pending appeal. A vessel denied a longfin squid moratorium permit may fish for longfin squid while the decision on the appeal is pending within NMFS, provided that the denial has been appealed, the appeal is pending, and the vessel has on board an LOA from the Regional Administrator authorizing the vessel to fish under the longfin squid moratorium permit category for which the applicant has submitted an appeal. A request for an LOA must be made when submitting an appeal of the denial of the permit application. The Regional Administrator will issue such a letter for the pending period of any appeal. The LOA must be carried on board the vessel. If the appeal is finally denied, the Regional Administrator shall send a notice of final denial to the vessel owner; the authorizing letter becomes invalid 5 days after the receipt of the notice of denial, but no later than 10 days from the date of the letter of denial.

(ii) Illex squid and butterfish moratorium permits.

(A) Eligibility. To be eligible to apply for a moratorium permit to fish for and retain Illex squid or butterfish in excess of the incidental catch allowance in paragraph (a)(5)(iv) of this section in the EEZ, a vessel must have been issued an Illex squid or butterfish moratorium permit for the preceding year, be replacing a vessel that was issued a moratorium permit for the preceding year, or be replacing a vessel that was issued a confirmation of permit history. Beginning on [date 90 days after the date of publication of the final rule in the Federal Register], a vessel that was previously issued a longfin squid/butterfish moratorium permit during fishing year 2018 shall be automatically issued a separate butterfish moratorium permit.

(B) Application/renewal restriction. See paragraph (a)(1)(i)(B) of this section.

(C) Qualification restriction. See paragraph (a)(1)(i)(C) of this section.

(D) Change in ownership. See paragraph (a)(1)(i)(D) of this section.

(E) Replacement vessels. See paragraph (a)(1)(i)(E) of this section.

(F) Upgraded vessel. See paragraph (a)(1)(i)(F) of this section.

(G) Consolidation restriction. See paragraph (a)(1)(i)(G) of this section.

(H) Vessel baseline specifications. See paragraph (a)(3)(i)(H) of this section.

(I) [Reserved]

(J) Confirmation of permit history. See paragraph (a)(1)(i)(J) of this section.

(K) Abandonment or voluntary relinquishment of permits. See paragraph (a)(1)(i)(K) of this section.

(L) Restriction on permit splitting. See paragraph (a)(1)(i)(L) of this section.

(iii) Limited access Atlantic mackerel permits. (A) Vessel size restriction. A vessel of the United States is eligible for and may be issued an Atlantic mackerel permit to fish for, possess, or land Atlantic mackerel in or from the EEZ, except for any vessel that is greater than or equal to 165 ft (50.3 m) in length overall (LOA), or greater than 750 gross registered tons (680.4 mt), or the vessel's total main propulsion machinery is greater than 3,000 horsepower. Vessels that exceed the size or horsepower restrictions may seek to obtain an at-sea processing permit specified in § 648.6(a)(2)(i).

(B) Limited access mackerel permits. A vessel of the United States that fishes for, possesses, or lands more than 20,000 lb (9,072 kg) of mackerel per trip, except vessels that fish exclusively in state waters for mackerel, must have been issued and carry on board one of the limited access mackerel permits described in paragraphs (a)(5)(iii)(B)(1) through (3) of this section, including both vessels engaged in pair trawl operations.

(1) Tier 1 Limited Access Mackerel Permit. A vessel may fish for, possess, and land mackerel not subject to a trip limit, provided the vessel qualifies for and has been issued this permit, subject to all other regulations of this part.

(2) Tier 2 Limited Access Mackerel Permit. A vessel may fish for, possess, and land up to 135,000 lb (50 mt) of mackerel per trip, provided the vessel qualifies for and has been issued this permit, subject to all other regulations of this part.

(3) Tier 3 Limited Access Mackerel Permit. A vessel may fish for, possess, and land up to 100,000 lb (37.3 mt) of mackerel per trip, provided the vessel qualifies for and has been issued this permit, subject to all other regulations of this part.

(C) Eligibility criteria for mackerel permits. To be eligible to apply for a Tier 1, Tier 2, or Tier 3 limited access mackerel permit to fish for and retain Atlantic mackerel in excess of the incidental catch allowance in paragraph (a)(5)(vi) of this section in the EEZ, a vessel must have been issued a Tier 1, Tier 2, or Tier 3 limited access mackerel permit, as applicable, for the preceding year, be replacing a vessel that was issued a limited access permit for the preceding year, or be replacing a vessel that was issued a confirmation of permit history.

(D) Application/renewal restrictions. See paragraph (a)(1)(i)(B) of this section.

(E) Qualification restrictions. (1) See paragraph (a)(1)(i)(C) of this section.

(F) Change of ownership. See paragraph (a)(1)(i)(D) of this section.

(G) Replacement vessels. See paragraph (a)(1)(i)(E) of this section.

(H) Vessel baseline specification. (1) In addition to the baseline specifications specified in paragraph (a)(1)(i)(H) of this section, the volumetric fish hold capacity of a vessel at the time it was initially issued a Tier 1 or Tier 2 limited access mackerel permit will be considered a baseline specification. The fish hold capacity measurement must be certified by one of the following qualified individuals or entities: an individual credentialed as a Certified Marine Surveyor with a fishing specialty by the National Association of Marine Surveyors (NAMS); an individual credentialed as an Accredited Marine Surveyor with a fishing specialty by the Society of Accredited Marine Surveyors (SAMS); employees or agents of a classification society approved by the Coast Guard pursuant to 46 U.S.C. 3316(c); the Maine State Sealer of Weights and Measures; a professionally-licensed and/or registered Marine Engineer; or a Naval Architect with a professional engineer license. The fish hold capacity measurement submitted to NMFS as required in this paragraph (a)(5)(iii)(H)(1) must include a signed certification by the individual or entity that completed the measurement, specifying how they meet the definition of a qualified individual or entity.

(2) If a mackerel CPH is initially issued, the vessel that provided the CPH eligibility establishes the size baseline against which future vessel size limitations shall be evaluated, unless the applicant has a vessel under contract prior to the submission of the mackerel limited access application. If the vessel that established the CPH is less than 20 ft (6.09 m) in length overall, then the baseline specifications associated with other limited access permits in the CPH suite will be used to establish the mackerel baseline specifications. If the vessel that established the CPH is less than 20 ft (6.09 m) in length overall, the limited access mackerel eligibility was established on another vessel, and there are no other limited access permits in the CPH suite, then the applicant must submit valid documentation of the baseline specifications of the vessel that established the eligibility. The hold capacity baseline for such vessels will be the hold capacity of the first replacement vessel after the permits are removed from CPH. Hold capacity for the replacement vessel must be measured pursuant to paragraph (a)(5)(iii)(H)(1) of this section.

(I) Upgraded vessel. See paragraph (a)(1)(i)(F) of this section. In addition, for Tier 1 and Tier 2 limited access mackerel permits, the replacement vessel's volumetric fish hold capacity may not exceed by more than 10 percent the volumetric fish hold capacity of the vessel's baseline specifications. The modified fish hold, or the fish hold of the replacement vessel, must be resurveyed by a surveyor (accredited as in paragraph (a)(5)(iii)(H) of this section) unless the replacement vessel already had an appropriate certification.

(J) Consolidation restriction. See paragraph (a)(1)(i)(G) of this section.

(K) Confirmation of permit history. See paragraph (a)(1)(i)(J) of this section.

(L) Abandonment or voluntary relinquishment of permits. See paragraph (a)(1)(i)(K) of this section.

(iv) Atlantic mackerel incidental catch permits. Any vessel of the United States may obtain a permit to fish for or retain up to 20,000 lb (9,072 kg) of Atlantic mackerel as an incidental catch in another directed fishery, provided that the vessel does not exceed the size restrictions specified in paragraph (a)(5)(iii)(A) of this section. The incidental catch allowance may be revised by the Regional Administrator based upon a recommendation by the Council following the procedure set forth in § 648.21.

(v) Party and charter boat permits. The owner of any party or charter boat must obtain a permit to fish for, possess, or retain in or from the EEZ mackerel, squid, or butterfish while carrying passengers for hire.

(vi) Squid/butterfish incidental catch permit. Any vessel of the United States may obtain a permit to fish for or retain up to 250 lb (113 kg) of longfin squid, 600 lb (272 kg) of butterfish, or up to 10,000 lb (4,536 kg) of Illex squid, as an incidental catch in another directed fishery. The incidental catch allowance may be revised by the Regional Administrator based upon a recommendation by the Council following the procedure set forth in § 648.22.

* * * * *

4. In § 648.7, revise paragraphs (a)(1), (b)(3)(iii), and (f)(2)(i) to read as follows:

§ 648.7 Recordkeeping and reporting requirements.

(a) * * *

(1) Federally permitted dealers, and any individual acting in the capacity of a dealer, must submit to the Regional Administrator or to the official designee a detailed report of all fish purchased or received for a commercial purpose, other than solely for transport on land, within the time period specified in paragraph (f) of this section, by one of the available electronic reporting mechanisms approved by NMFS, unless otherwise directed by the Regional Administrator. The dealer reporting requirements specified in this paragraph (a)(1) for dealers purchasing or receiving for a commercial purpose Atlantic chub mackerel are effective through December 31, 2020. The following information, and any other information required by the Regional Administrator, must be provided in each report:

(i) Required information. All dealers issued a dealer permit under this part must provide: Dealer name; dealer permit number; name and permit number or name and hull number (USCG documentation number or state registration number, whichever is applicable) of vessel(s) from which fish are purchased or received; trip identifier for each trip from which fish are purchased or received from a commercial fishing vessel permitted under this part; date(s) of purchases and receipts; units of measure and amount by species (by market category, if applicable); price per unit by species (by market category, if applicable) or total value by species (by market category, if applicable); port landed; cage tag numbers for surfclams and ocean quahogs, if applicable; disposition of the seafood product; and any other information deemed necessary by the Regional Administrator. If no fish are purchased or received during a reporting week, a report so stating must be submitted.

(ii) Exceptions. The following exceptions apply to reporting requirements for dealers permitted under this part:

(A) Inshore Exempted Species, as defined in § 648.2, are not required to be reported under this part;

(B) When purchasing or receiving fish from a vessel landing in a port located outside of the Greater Atlantic Region (Maine, New Hampshire, Massachusetts, Connecticut, Rhode Island, New York, New Jersey, Pennsylvania, Maryland, Delaware, Virginia and North Carolina), only purchases or receipts of species managed by the Greater Atlantic Region under this part, and American lobster, managed under part 697 of this chapter, must be reported. Other reporting requirements may apply to those species not managed by the Northeast Region, which are not affected by this provision; and

(C) Dealers issued a permit for Atlantic bluefin tuna under part 635 of this chapter are not required to report their purchases or receipts of Atlantic bluefin tuna under this part. Other reporting requirements, as specified in § 635.5 of this chapter, apply to the receipt of Atlantic bluefin tuna.

* * * * *

(b) * * *

(3) * * *

(iii) Longfin squid moratorium permit owners or operators. The owner or operator of a vessel issued a longfin squid moratorium permit must report catch (retained and discarded) of longfin squid daily via VMS, unless exempted by the Regional Administrator. The report must include at least the following information, and any other information required by the Regional Administrator: Fishing Vessel Trip Report serial number; month, day, and year longfin squid was caught; total pounds longfin squid retained and total pounds of all fish retained. Daily longfin squid VMS catch reports must be submitted in 24-hr intervals for each day and must be submitted by 0900 hr on the following day. Reports are required even if longfin squid caught that day have not yet been landed. This report does not exempt the owner or operator from other applicable reporting requirements of this section.

* * * * *

(f) * * *

(2) * * *

(i) For any vessel not issued a NE multispecies; Atlantic herring permit; or any Atlantic mackerel, longfin squid, Illex squid, or butterfish permit; fishing vessel log reports, required by paragraph (b)(1)(i) of this section, must be postmarked or received by NMFS within 15 days after the end of the reporting month. For any vessel issued a NE multispecies permit; Atlantic herring permit; or any Atlantic mackerel, longfin squid, Illex squid, or butterfish permit; fishing vessel log reports must be postmarked or received by midnight of the first Tuesday following the end of the reporting week. For the purposes of this paragraph (f)(2)(i), the date when fish are offloaded will establish the reporting week or month the VTR must be submitted to NMFS, as appropriate.

* * * * *

5. In § 648.10, revise paragraphs (b)(9) through (11), (e)(5)(i), (o), and (p); and add paragraph (b)(12) to read as follows:

§ 648.10 VMS and DAS requirements for vessel owners/operators.

* * * * *

(b) * * *

(9) A vessel issued a Tier 1, Tier 2, or Tier 3 limited access Atlantic mackerel permit;

(10) A vessel issued a Tier 1 or Tier 2 longfin squid moratorium permit;

(11) A vessel issued an Illex squid moratorium permit; or

(12) A vessel issued a butterfish moratorium permit.

* * * * *

(e) * * *

(5) * * *

(i) A vessel subject to the VMS requirements of § 648.9 and paragraphs (b) through (d) of this section that has crossed the VMS Demarcation Line under paragraph (a) of this section is deemed to be fishing under the DAS program, the Access Area Program, the LAGC IFQ or NGOM scallop fishery, or other fishery requiring the operation of VMS as applicable, unless prior to leaving port, the vessel's owner or authorized representative declares the vessel out of the scallop, NE multispecies, monkfish, or any other fishery, as applicable, for a specific time period. NMFS must be notified by transmitting the appropriate VMS code through the VMS, or unless the vessel's owner or authorized representative declares the vessel will be fishing in the Eastern U.S./Canada Area, as described in § 648.85(a)(3)(ii), under the provisions of that program.

* * * * *

(o) Longfin squid VMS notification requirement. A vessel issued a Tier 1 or Tier 2 longfin squid moratorium permit intending to harvest, possess, or land more than 2,500 lb (1.13 mt) of longfin squid on that trip must notify NMFS by declaring a longfin squid trip before leaving port at the start of each trip.

(p) Illex squid VMS notification requirement. A vessel issued an Illex squid moratorium permit intending to harvest, possess, or land 10,000 lb (4,536 kg) or more of Illex squid on that trip must notify NMFS by declaring an Illex squid trip before leaving port at the start of each trip.

* * * * *

6. In § 648.11, revise the introductory text in paragraph (n)(2) and paragraphs (n)(3)(i) and (ii) to read as follows:

§ 648.11 At-sea sea sampler/observer coverage.

* * * * *

(n) * * *

(2) Sampling requirements for limited access Atlantic mackerel or Tier 1 or 2 longfin squid, or butterfish moratorium permit holders. In addition to the requirements in paragraphs (d)(1) through (7) of this section, an owner or operator of a vessel issued a limited access Atlantic mackerel or a longfin squid or butterfish moratorium permit on which a NMFS-approved observer is embarked must provide observers:

* * * * *

(3) * * *

(i) No vessel issued a limited access Atlantic mackerel permit or a longfin squid or butterfish moratorium permit may slip catch, as defined at § 648.2, except in the following circumstances:

(A) The vessel operator has determined, and the preponderance of available evidence indicates that, there is a compelling safety reason; or

(B) A mechanical failure, including gear damage, precludes bringing some or all of the catch on board the vessel for sampling and inspection; or

(C) The vessel operator determines that pumping becomes impossible as a result of spiny dogfish clogging the pump intake. The vessel operator shall take reasonable measures, such as strapping and splitting the net, to remove all fish that can be pumped from the net prior to release.

(ii) If a vessel issued any limited access Atlantic mackerel permit slips catch, the vessel operator must report the slippage event on the Atlantic mackerel and longfin squid daily VMS catch report and indicate the reason for slipping catch. Additionally, for a vessel issued a limited Atlantic mackerel permit or a longfin squid or butterfish moratorium permit, the vessel operator must complete and sign a Released Catch Affidavit detailing: The vessel name and permit number; the VTR serial number; where, when, and the reason for slipping catch; the estimated weight of each species brought on board or slipped on that tow. A completed affidavit must be submitted to NMFS within 48 hr of the end of the trip.

* * * * *

7. In § 648.13, revise paragraph (a) to read as follows:

§ 648.13 Transfers at sea.

(a) Vessels issued a longfin squid, butterfish, or Illex squid moratorium permit and vessels issued a squid/butterfish incidental catch permit may transfer or attempt to transfer or receive longfin squid, Illex squid, or butterfish only if authorized in writing by the Regional Administrator through the issuance of a letter of authorization (LOA).

* * * * *

8. In § 648.14, revise paragraphs (g)(1)(i), (g)(1)(ii)(B), (g)(2)(i), (g)(2)(ii)(A), (g)(2)(ii)(D) and (F), (g)(2)(iii)(A), introductory text for (g)(2)(v), (g)(2)(v)(A), and (g)(2)(vi); and add paragraph (g)(2)(ii)(H) to read as follows:

§ 648.14 Prohibitions.

(g) * * *

(1) * * *

(i) Possession and landing. Take and retain, possess, or land more Atlantic mackerel, squid or butterfish than specified under, or after the effective date of, a notification issued under §§ 648.22 or 648.24(d).

(ii) * * *

(B) Transfer longfin squid, Illex squid, or butterfish within the EEZ, unless the vessels participating in the transfer have been issued the appropriate LOA from the Regional Administrator along with a valid longfin squid, butterfish, or Illex squid moratorium permit and are transferring species for which the vessels are permitted, or a valid squid/butterfish incidental catch permit.

* * * * *

(2) * * *

(i) General requirement. Fail to comply with any measures implemented pursuant to Subpart B.

(ii) * * *

(A) Possess more than the incidental catch allowance of longfin squid, unless issued a longfin squid moratorium permit.

* * * * *

(D) Take and retain, possess, or land mackerel, squid, or butterfish in excess of a possession limit specified in § 648.26.

* * * * *

(F) Take and retain, possess, or land mackerel after a total closure specified under § 648.24(b)(1).

* * * * *

(H) Possess more than the incidental catch allowance of butterfish, unless issued a butterfish moratorium permit.

(iii) * * *

(A) Fish with or possess nets or netting that do not meet the gear requirements for Atlantic mackerel, longfin squid, Illex squid, or butterfish specified in § 648.23(a); or that are modified, obstructed, or constricted, if subject to the minimum mesh requirements, unless the nets or netting are stowed and not available for immediate use as defined in § 648.2 or the vessel is fishing under an exemption specified in § 648.23(a)(5).

* * * * *

(v) VMS reporting requirements in the directed Atlantic mackerel longfin squid, and Illex squid fisheries.

(A) Fail to declare via VMS into the directed mackerel, longfin squid,, or Illex squid fisheries by entering the fishery code prior to leaving port at the start of each trip if the vessel will harvest, possess, or land more than an incidental catch of Atlantic mackerel, longfin squid, or Illex squid and is issued a Limited Access Atlantic mackerel permit, Tier 1 or Tier 2 longfin squid moratorium permit, or Illex squid moratorium permit.

* * * * *

(vi) Slip catch, as defined at § 648.2, unless for one of the reasons specified at § 648.11(n)(3)(i) if issued a limited access Atlantic mackerel permit, or a longfin squid or a butterfish moratorium permit.

* * * * *

9. In § 648.22, revise paragraphs (a),(b)(1)(i)(B), (c)(3), and (c)(6) to read as follows:

§ 648.22 Atlantic mackerel, squid, and butterfish specifications.

(a) Initial recommended annual specifications. The Atlantic Mackerel, Squid, and Butterfish Monitoring Committee (Monitoring Committee) shall meet annually to develop and recommend the following specifications for consideration by the Squid, Mackerel, and Butterfish Committee of the MAFMC:

(1) Illex squid—Initial OY (IOY), including Research Set-Aside (RSA), domestic annual harvest (DAH), and domestic annual processing (DAP) for Illex squid, which, subject to annual review, may be specified for a period of up to 3 years;

(2) Butterfish—ACL; ACT including RSA, DAH, DAP; bycatch level of the total allowable level of foreign fishing (TALFF), if any; and butterfish mortality cap for the longfin squid fishery for butterfish; which, subject to annual review, may be specified for a period of up to 3 years;

(3) Atlantic mackerel—ACL; commercial ACT, including RSA, DAH, mackerel Tier 3 allocation (up to 7 percent of the DAH), DAP; joint venture processing (JVP) if any; TALFF, if any; and recreational ACT, including RSA for mackerel; which, subject to annual review, may be specified for a period of up to 3 years. The Monitoring Committee may also recommend that certain ratios of TALFF, if any, for mackerel to purchases of domestic harvested fish and/or domestic processed fish be established in relation to the initial annual amounts.

(4) Longfin squid -

(i) IOY, including RSA, DAH, and DAP for longfin squid, which, subject to annual review, may be specified for a period of up to 3 years; and

(ii) Inseason adjustment, upward or downward, to the specifications for longfin squid, as specified in paragraph (e) of this section.

(b) * * *

(1) * * *

(i) * * *

(B) Illex squid—Catch associated with a fishing mortality rate of FMSY.

* * * * *

(c) * * *

(3) The amount of longfin squid, Illex squid, and butterfish that may be retained and landed by vessels issued the incidental catch permit specified in § 648.4(a)(5)(vi), and the amount of mackerel that may be retained, possessed and landed by any of the limited access mackerel permits described at § 648.4(a)(5)(iii) and the incidental mackerel permit at § 648.4(a)(5)(iv).

* * * * *

(6) Commercial seasonal quotas/closures for longfin squid and Illex squid, and allocation for the Tier 3 Limited Access Mackerel permit.

* * * * *

10. In § 648.24, revise paragraph (c)(1) to read as follows:

§ 648.24 Fishery closures and accountability measures.

* * * * *

(c) * * *

(1) Directed butterfish fishery closure. When the butterfish catch reaches the butterfish closure threshold as determined in the annual specifications, NMFS shall implement a 5,000 lb (2,268 kg) possession limit for vessels issued a butterfish moratorium permit that are fishing with a minimum mesh size of 3 inches (76 mm). When NMFS projects that the butterfish catch has reached the butterfish DAH, as determined in the annual specifications, NMFS shall implement a 600 lb (272 kg) possession limit for all vessels issued a longfin squid or butterfish moratorium permit, or a squid/butterfish incidental catch permit.

* * * * *

11. In § 648.25, revise paragraph (a)(4)(i) to read as follows:

§ 648.25 Atlantic Mackerel, squid, and butterfish framework adjustments to management measures.

(a) * * *

(4) * * *

(i) If NMFS concurs with the MAFMC's recommended management measures and determines that the recommended management measures should be issued as a final rule based on the factors specified in paragraph (a)(3) of this section, the measures will be issued as a final rule in the Federal Register.

* * * * *

12. In § 648.26, revise paragraphs (b) through (d) to read as follows:

§ 648.26 Mackerel, squid, and butterfish possession restrictions.

* * * * *

(b) Longfin squid.

(1) Directed fishery. A vessel must be issued a valid longfin squid moratorium permit to fish for, possess, or land more than 250 lb (113 kg) of longfin squid from or in the EEZ per trip. Unless the directed fishery is closed pursuant to paragraph § 648.24(a)(1), the following longfin squid possession limits apply:

(i) Tier 1 moratorium permits. A vessel issued a Tier 1 longfin squid moratorium permit may possess an unlimited amount of longfin squid per trip.

(ii) Tier 2 moratorium permits. A vessel issued a Tier 2 longfin squid moratorium permit may not fish for, possess, or land more than 5,000 lb (2,268 kg) of longfin squid per trip, and may only land longfin squid once on any calendar day.

(iii) Tier 3 moratorium permits. A vessel issued a Tier 3 longfin squid moratorium permit may not fish for, possess, or land more than 2,500 lb (1,134 kg) of longfin squid per trip, and may only land longfin squid once on any calendar day.

(2) Incidental fishery.

(i) A vessel issued an open access squid/butterfish incidental catch permit may not fish for, possess, or land more than 250 lb (113 kg) of longfin squid from or in the EEZ per trip, and may only land longfin squid once on any calendar day.

(ii) During a closure of the directed longfin squid fishery in either Trimester I or III pursuant to paragraph § 648.24(a)(1), a vessel may not fish for, possess, or land more than 2,500 lb (1,134 kg) of longfin squid at any time per trip, and may only land longfin squid once on any calendar day.

(iii) Unless otherwise specified in paragraph (b)(2)(iv) of this section, during a closure of the directed longfin squid fishery in Trimester II pursuant to § 648.24(a)(1), a vessel may not fish for, possess, or land more than 250 lb (113 kg) of longfin squid at any time per trip, and may only land longfin squid once on any calendar day.

(iv) During a closure of the directed longfin squid fishery in Trimester II, a vessel issued either a Tier 1 or Tier 2 longfin squid moratorium permit may possess more than 250 lb (113 kg) of longfin squid per trip, provided the following conditions are met:

(A) The vessel operator has declared into the directed Illex squid fishery via VMS, as specified in § 648.10;

(B) The vessel is seaward of the coordinates specified at § 648.23(a)(5);

(C) The vessel possesses more than 10,000 lb (4,536 kg) of Illex squid on board;

(D) The vessel possesses less than 15,000 lb (6,803 kg) of longfin squid if issued a Tier 1 longfin squid moratorium permit or 5,000 lb (2,268 kg) of longfin squid if issued a Tier 2 longfin squid moratorium permit; and

(E) All fishing gear is stowed and rendered not available for immediate use, as defined in § 648.2, once the vessel is landward of the coordinates specified at § 648.23(a)(5).

(c) Illex squid.

(1) Directed fishery. A vessel must be issued a valid Illex squid moratorium permit to fish for, possess, or land more than 10,000 lb (4,536 kg) of Illex squid from or in the EEZ per trip. Unless the directed fishery is closed pursuant to paragraph § 648.24(a)(2), a vessel issued an Illex moratorium permit may possess an unlimited amount of Illex squid per trip.

(2) Incidental fishery. A vessel may not fish for, possess, or land more than 10,000 lb (4,536 kg) of Illex squid per trip at any time, and may only land Illex squid once on any calendar day if:

(i) A vessel is issued an open access squid/butterfish incidental catch permit; or

(ii) A vessel is issued an Illex moratorium permit and the directed fishery is closed pursuant to paragraph § 648.24(a)(2).

(d) Butterfish. Any vessel issued a butterfish permit under this part may only land butterfish once on any calendar day.

(1) Directed fishery. A vessel must be issued a butterfish moratorium permit to fish for, possess, or land more than 600 lb (272 kg) of butterfish per trip.

(i) Vessels fishing with larger mesh. A vessel issued a butterfish moratorium permit fishing with a minimum mesh size of 3 inches (76 mm) is authorized to fish for, possess, or land butterfish with no possession restriction in the EEZ per trip, provided that directed butterfish fishery has not been closed and the reduced possession limit has not been implemented, as specified in § 648.24(c)(1). When butterfish harvest is projected to reach the threshold for the butterfish fishery, as specified in § 648.24(c)(1), these vessels may not fish for, possess, or land more than 5,000 lb (2,268 kg) of butterfish per trip at any time. When butterfish harvest is projected to reach the DAH limit, as specified in § 648.24(c)(1), these vessels may not fish for, possess, or land more than 600 lb (272 kg) of butterfish per trip at any time.

(ii) Vessels fishing with smaller mesh. A vessel issued a butterfish moratorium permit fishing with mesh less than 3 inches (76 mm) may not fish for, possess, or land more than 5,000 lb (2,268 kg) of butterfish per trip at any time, provided that butterfish harvest has not reached the DAH limit and the reduced possession limit has not been implemented, as described in § 648.24(c)(1). When butterfish harvest is projected to reach the DAH limit, as described in § 648.24(c)(1), these vessels may not fish for, possess, or land more than 600 lb (272 kg) of butterfish per trip at any time.

(2) Incidental fishery. A vessel issued a squid/butterfish incidental catch permit, regardless of mesh size used, may not fish for, possess, or land more than 600 lb (272 kg) of butterfish per trip at any.

* * * * *

[FR Doc. 2018-18934 Filed 8-30-18; 8:45 am]

BILLING CODE 3510-22-P